DEPARTMENT OF EDUCATION

Gaining Early Awareness and Readiness for Undergraduate Programs (GEAR UP) CFDA No. 84.334S (State Grants) and 84.334A (Partnership Grants)

AGENCY: Office of Postsecondary Education, Department of Education.

ACTION: Notice of intent to fund down the fiscal year (FY) 2008 grant slate for the GEAR UP Program.

SUMMARY: The Secretary intends to use the grant slate developed in FY 2008 for the GEAR UP Program authorized by Title IV, Part A, of the Higher Education Act of 1965, as amended (HEA), to make new grant awards in FY 2009. The Secretary takes this action because a significant number of high-quality applications remain on last year's grant slate. We expect to use an estimated $9,789,000 for new awards in FY 2009.

FOR FURTHER INFORMATION CONTACT: James Davis, U.S. Department of Education, 1990 K Street, NW., room 6109, Washington, DC 20006-8524. Telephone: (202) 502-7676 or via Internet: James.Davis@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

On November 5, 2007, we published a notice in the Federal Register (72 FR 62499) inviting applications for new awards under the GEAR UP Program.

In response to this notice, we received a significant number of high-quality applications and made seven new State grant awards and 31 new Partnership grant awards. However, many applications that were awarded high scores by peer reviewers did not receive funding in FY 2008 due to the level of appropriations.

The Department's FY 2009 appropriation is sufficient to allow the Department to make continuation awards to the 38 current grantees, and have funds still available for new awards under this program for FY 2009. Rather than using program funds for a new peer review process, the Department has decided to use the remaining funds after continuation awards are made to select grantees in FY 2009 from the existing slate of applicants. This slate was developed during the FY 2008 competition using the selection criteria referenced in the Federal Register notice.

Note: To be eligible to receive a grant pursuant to this notice, all applicants being considered for funding based on the funding slate for the FY 2008 competition must meet all statutory and regulatory eligibility criteria and other requirements for this program.

Program Authority: 20 U.S.C. 1070a-21—1070-28.

Electronic Access to This Document:

You may view this document, as well as all other documents of this Department published in the Federal Register, in text or Adobe Portable Document Format (PDF), on the Internet at the following site: http://www.ed.gov/news/fedregister. To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Delegation of Authority: The Secretary of Education has delegated authority to Daniel T. Madzelan, Director, Forecasting and Policy Analysis for the Office of Postsecondary Education, to perform the functions of the Assistant Secretary for Postsecondary Education.

Dated: May 5, 2009.
Daniel T. Madzelan,
Director, Forecasting and Policy Analysis.

[FR Doc. E9-10810 Filed 5-7-09; 8:45 am]

BILLING CODE 4000-01-P